DEPARTMENT OF THE INTERIOR

Bureau of Land Management

[AK-990-5101-ER-FL07]

Notice of Rescheduled Scoping Meetings for the Environmental Impact Statement (EIS) for Renewal of the Federal Agreement and Grant of Right-of-Way for the Trans-Alaska Pipeline System (TAPS).

AGENCY: Bureau of Land Management, Interior.

ACTION: Notice of rescheduled Scoping Meetings for the Environmental Impact Statement (EIS) for Renewal of the Federal Agreement and Grant of Right-of-Way for the Trans-Alaska Pipeline System (TAPS).

SUMMARY: The BLM is rescheduling scoping meetings originally scheduled to occur on September 12, 2001, in Barrow, Alaska and September 13, 2001, in Fairbanks, Alaska, and is extending the scoping period. The Notice of Intent establishing the original scoping period and notifying the public of meeting times was published in the Federal Register on July 31, 2001 (Vol. 66, No. 147, p. 39529). The tragic events of September 11, 2001 and the resultant disruption of air traffic made the postponement and extension necessary.

The BLM will hold rescheduled public scoping meetings for the EIS in these communities as listed below (specific meeting times and places will be announced through local media, project web site, and by e-mail):

Fairbanks, Alaska: Wednesday, October 10, 2001

Barrow, Alaska: Friday, October 12, 2001

The public scoping period, originally scheduled to end on September 29, is extended to October 19.

DATES: The BLM will accept written comments on the EIS scope postmarked by October 19, 2001; and electronic, faxed, and voice comments received by October 19, 2001. Written comments may also be hand-delivered to the Joint Pipeline Office in Anchorage, Alaska, by 4 p.m. on October 19, 2001.

ADDRESSES: Written comments should be mailed to BLM TAPS Renewal Scoping, Argonne National Laboratory EAD/900, 9700 S. Cass Avenue, Argonne, IL 60439. As an alternative, written comments can be hand-delivered to BLM TAPS Renewal Scoping, 411 W. 4th Avenue, Suite 2, Anchorage, AK. (Do not mail them to this address.) Comments also can be e-mailed to tapseis@anl.gov, submitted through the “Public Comment Form” feature on the TAPS Renewal EIS Web site at http://tapseis.anl.gov, by fax toll free to 866-386-7350, or by voice message toll free at 866-386-7331.

FOR FURTHER INFORMATION, CONTACT: Rob McWhorter, 907-271-3664, Joint Pipeline Office, 411 W 4th Avenue, Suite 2, Anchorage, AK 99501, rmcwhort@jpo.doi.gov, or visit the TAPS Right-of-Way Renewal Web site at http://www.tapsrenewal.jpo.doi.gov or the TAPS Renewal EIS Web site at http://tapseis.anl.gov.

Withholding of Personal Information: It is the BLM's practice to make comments, including names and addresses of commenters, available for public review during regular business hours. Individual commenters may request that we withhold their home address from the scoping record, and we will honor such requests to the extent allowable by law. If you wish us to withhold your name and/or address, you must state this prominently at the beginning of your comment. We will make all submissions from organizations or businesses, and from individuals identifying themselves as representatives or officials of organizations or businesses, available for public inspection in their entirety.

Dated: September 13, 2001.
Francis R. Cherry, Jr.,
State Director, Alaska.

[FR Doc. 01-23735 Filed 9-20-01; 8:45 am]

BILLING CODE 4310-JA-P